DEPARTMENT OF AGRICULTURE

Privacy Act of 1974: Notice of Proposed Privacy Act System of Records Revision and Proposed New Routine Uses

AGENCY: Grain Inspection, Packers and Stockyards Administration, U.S. Department of Agriculture.

ACTION: Notice of proposed Privacy Act system of records.

SUMMARY: In accordance with the requirements of the Privacy Act of 1974, as amended, the U.S. Department of Agriculture (USDA), Grain Inspection, Packers and Stockyards Administration (GIPSA), is giving notice that it is revising a system of records that is maintained for the purpose of enforcing the U.S. Grain Standards Act (USGSA) and certain provisions of the Agricultural Marketing Act of 1946 (AMA). GIPSA's Federal Grain Inspection Service (FGIS) administers the USGSA and certain provisions of the AMA.

DATES: Effective Date: This notice will be effective without further notice on February 22, 2011 unless modified by a subsequent notice to incorporate comments received from the public. Written or electronic comments must be received by the contact person listed below on or before January 20, 2011 to be assured consideration.

ADDRESSES: You may submit written or electronic comments on this notice by any of the following methods:

• Federal eRulemaking Portal: http://www.regulations.gov. Follow the online instructions for submitting comments.

• E-mail: comments.gipsa@usda.gov.

• Fax: (202) 690-2173.

• Mail: Tess Butler, GIPSA, USDA, 1400 Independence Avenue, SW., Room 1633-S, Washington, DC 20250-3642.

• Hand Delivery or Courier: Tess Butler, GIPSA, USDA, 1400 Independence Avenue, SW., Room 1633-S, Washington, DC 20250-3642.

Instructions: All comments will become a matter of public record and should be identified as “GIPSA FGISonline System of Records Comments,” making reference to the date and page number of this issue of the Federal Register. Comments will be available for public inspection in the above office during regular business hours (7 CFR 1.27(b)). Please call GIPSA Management and Budget Services at (202) 720-7486 to make an appointment to read comments.

FOR FURTHER INFORMATION CONTACT: Randall Jones, Deputy Administrator, Federal Grain Inspection Service, at (202) 720-9170.

SUPPLEMENTARY INFORMATION: The USGSA, enacted in 1916, authorizes the Secretary of Agriculture to establish official U.S. standards for grain and a national grain inspection system. The USGSA has been amended many times, but the most significant amendment occurred in 1976 when FGIS was created to manage the national grain inspection system and to establish a national grain weighing program. In October 1994, FGIS was merged with another USDA agency, the Packers and Stockyards Administration, to create GIPSA.

The USGSA requires, among other provisions, that shipments of grain of a specified grade for export be inspected and weighed at the export terminal and that either FGIS perform and certify such inspections or that FGIS delegate its authority to State government agencies to perform the services under FGIS' supervision. The USGSA authorizes FGIS to designate private and State agencies to offer and perform official inspections in the domestic market, to license delegated and designated agency personnel to conduct official inspections, and to monitor the State-operated and privately owned official agencies throughout the inspection process. Also, the USGSA requires that all persons who buy, handle, weigh, or transport more than 15,000 metric tons of U.S. grain for sale in foreign commerce grain business register with FGIS. Those who engage in practices prohibited by the USGSA or who are convicted of any violation involving the handling, weighing, or inspection of grain may be refused official inspection and weighing services; may have their designation of an official agency revoked; their license suspended, revoked, or not renewed; or their certificate of registration suspended. Criminal and/or civil penalties may be assessed to any person who commits an offense prohibited by the USGSA. Sections 7 U.S.C. 77, 79, 79a, 84, 87f-1 of the USGSA and sections 800.15-18, 800.30-39, 800.170-180, 800.215-219, and 800.217 of the USGSA regulations establish the requirements and procedures for obtaining official services, for designating agencies and licensing individuals, for supervising and monitoring activities, and for registering an entity to be involved in foreign commerce grain business.

Under the AMA, FGIS administers and enforces certain inspection and standardization activities related to rice, pulses, lentils, and processed grain products such as flour and corn meal, as well as other agricultural commodities. Services under the AMA are performed upon request on a fee basis for both domestic and export shipments by either FGIS employees or individual contractors, or through cooperative agreements with States and private entities. Section 7 U.S.C. 1621 et seq. of the AMA and sections 868.20-.26, 868.30-.36, 868.80-.84 of the AMA regulations establish the requirements and procedures for obtaining official services and for licensing persons to inspect commodities and to perform related services.

The information that is collected by FGIS will be maintained in the FGISonline system of records and used to administer and enforce the provisions of the USGSA, as well as applicable provisions of the AMA and regulations. In accordance with the Office of Management and Budget regulations (5 CFR part 1320) that implement the Paperwork Reduction Act of 1995 (44 U.S.C. Chapter 35), the information collected and maintained by the FGISonline system of records was approved on April 14, 2008, and will expire on April 30, 2011.

Pursuant to the Privacy Act of 1974 (5 U.S.C. 552a), USDA announces that it is revising an existing system of records “USDA/FGIS-1: Employment History Records for Licensed Nonfederal Employees.” The revisions will: (1) Change the name of the system to “USDA/GIPSA-2, GIPSA FGISonline”; (2) update the system location and system manager's name; (3) add new categories of individuals covered by the system; (4) add new categories of records in the system; (5) add routine uses; and (6) revise the policies and practices for storing, retrieving, accessing, retaining, safeguarding, and disposing of records in the system. These changes are necessary to address administrative changes and an agency restructuring; to address the current needs of the agency; to define more completely the data and information located in the system; and to update new reporting requirements.

GIPSA is modernizing the business functions of its grain program through the development of FGISonline, which is a portfolio of online business applications that will change the way that GIPSA does business and that will bring official grain inspection and weighing to the desktop. GIPSA believes FGISonline will improve internal program efficiencies and effectiveness, will better serve the customers of the official inspection and weighing service, and will meet Federal eGovernment and related USDA requirements.

FGISonline will capture all grain inspection, testing, and weighing information at the point of origin and store and manage data and information collected and generated under the USGSA and AMA to deliver official services, to monitor programs, to support queries, and to provide reporting capabilities. It will manage inspection and weighing records for services performed under the USGSA and AMA and will provide the public access to general information about grain quality, official service volume, and the inspection and weighing of grain in domestic and international commerce. FGISonline will automate the licensing, registration, delegation/designation, and equipment testing processes; provide online testing for licensed personnel and enhance recordkeeping; and expand FGIS' quality assurance and control capabilities.

Information relating to FGIS' official service providers, individuals licensed under the USGSA to perform official services, and registrants engaged in foreign commerce grain business will be maintained in the Licensing; Delegation, Designation, and Export Registration; and Quality Assurance/Quality Control FGISonline programs. Information that will be collected and maintained includes individuals' names, trade names, character of organizations, mailing and/or operating addresses, ownership information, names and locations where business is conducted, telephone numbers, employing official agencies, birth months and years, license numbers, and signatures of licensees.

When FGISonline is completed, GIPSA's customers will have online access to the information and applications they need to request grain inspection services; receive reports on service status; view the status of their user-fee accounts; and receive final certified results online which, in turn, will allow customers to integrate official inspection data into their own information and document management systems. Official service providers who are interested in providing official inspection services will also be able to apply for GIPSA designation and re-designation online. Once officially designated, these providers will have direct access through the Internet to GIPSA's extensive quality assurance program to ensure that their inspection results align with the official standards that are maintained by GIPSA. This modernization effort will create synergy across GIPSA programs and data sources, allowing GIPSA to improve internal program efficiencies and effectiveness.

A “Report on an Updated System,” required by 5 U.S.C. 552a(r) as implemented by the Office of Management and Budget (OMB) Circular A-130, was sent to the Chairman, Committee on Homeland Security and Governmental Affairs, United States Senate; the Chairman, Committee on Oversight and Government Reform, House of Representatives; and the Administrator, Office of Information and Regulatory Affairs, Office of Management and Budget.

Dated: December 14, 2010.
Thomas J. Vilsack,
Secretary.

USDA/GIPSA-2

SYSTEM NAME:

GIPSA FGISonline.

SECURITY CLASSIFICATION:

None.

SYSTEM LOCATION:

This system of records is under the control of the Deputy Administrator, Federal Grain Inspection Service, U.S. Department of Agriculture, 1400 Independence Avenue, SW., Washington, DC 20250.

CATEGORIES OF INDIVIDUALS COVERED BY THE SYSTEM:

Individuals covered by this system of records include persons who are licensed under the USGSA and/or AMA to perform official grain inspection and weighing services, persons who are registered under the USGSA to engage in foreign commerce grain business, and persons who operate private businesses that have been designated to provide official services.

CATEGORIES OF RECORDS IN THE SYSTEM:

The different categories of records in this system include applications for license, registration, and designation; official inspection, testing, and weighing data for grain, rice, pulses, graded commodities, and processed commodities; equipment data; and customer information. Information collected includes names of individuals applying for a license, home addresses, birth months and years, license numbers, signatures of licensees, employing official agencies' names and addresses, and licensees' examinations and score sheets; registrants' names, trade name, character of organizations, mailing and/or operating addresses, ownership information, names and locations where business is conducted, and telephone numbers.

AUTHORITY FOR MAINTENANCE OF THE SYSTEM:

7 U.S.C. 77, 79, 79a, 79b, 84, 87f-1; and 7 U.S.C. 1622.

AGENCY OFFICIAL RESPONSIBLE FOR THE SYSTEM OF RECORDS:

Deputy Administrator, Federal Grain Inspection Service, U.S. Department of Agriculture, 1400 Independence Avenue, SW., Washington, DC 20250.

PURPOSE(S):

FGISonline will give GIPSA's customers online access to the information and applications they need to request grain inspection services; receive reports on service status; see the status of their user-fee account; and receive final certified results online, which, in turn, will allow customers to integrate official inspection data into their own information management systems. Private and State inspection agencies interested in being authorized to provide official inspection services will also be able to apply for GIPSA designation and re-designation online. Once officially designated, these agencies will have direct access through the Internet to GIPSA's extensive quality assurance program to ensure that their inspection results align with the official standards maintained by GIPSA.

ROUTINE USES OF RECORDS MAINTAINED IN THE SYSTEM INCLUDING CATEGORIES OF USERS AND PURPOSES OF SUCH USES:

The information collected and maintained in the FGISonline system of records is used to administer and to enforce the provisions under the USGSA and AMA. Such provisions include the mandatory inspection and weighing of export grain; the registration of entities involved in foreign commerce grain business; the licensing of individuals who perform official services; the delegation and designation of official service providers; and providing certain inspection and standardization activities related to rice, pulses, lentils, and processed grain products such as flour and corn meal, as well as other agricultural commodities.

Records in this system may be disclosed as follows to:

1. The Department of Justice when the agency or any component thereof; any employee of the agency in his or her official capacity where the Department of Justice has agreed to represent the employee; or the United States Government is a party to litigation or has an interest in such litigation, and by careful review, the agency determines that the records are both relevant and necessary to the litigation and the use of such records by the Department of Justice is therefore deemed by the agency to be for a purpose that is compatible with the purpose for which the agency collected the records.

2. A court or adjudicative body in a proceeding when the agency or any component thereof, any employee of the agency in his or her official capacity; any employee of the agency in his or her individual capacity where the agency has agreed to represent the employee; or the United States Government is a party to litigation or has an interest in such litigation, and by careful review, the agency determines that the records are both relevant and necessary to the litigation and the use of such records is therefore deemed by the agency to be for a purpose that is compatible with the purpose for which the agency collected the records.

3. When a record on its face, or in conjunction with other records, indicates a violation or potential violation of law, whether civil, criminal, or regulatory in nature, and whether arising by general statute or particular program statute, or by regulation, rule, or order issued pursuant thereto, disclosure may be made to the appropriate agency, whether Federal, foreign, State, local, or tribal, or other public authority responsible for enforcing, investigating or prosecuting such violation or charged with enforcing or implementing the statute, or rule, regulation, or order issued pursuant thereto, if the information disclosed is relevant to any enforcement, regulatory, investigative, or prosecutorial responsibility of the receiving entity.

4. A Member of Congress or to a Congressional staff member in response to an inquiry of the Congressional office made at the written request of the constituent about whom the record is maintained.

5. The National Archives and Records Administration or to the General Services Administration for records management inspections conducted pursuant to 44 U.S.C. 2904 and 2906.

6. Appropriate agencies, entities, and persons when: (a) GIPSA suspects or has confirmed that the security or confidentiality of information in the system of records has been compromised; (b) USDA has determined that as a result of the suspected or confirmed compromise, there is a risk of harm to economic or property interests, identity theft or fraud, or harm to the security or integrity of this system or other systems or programs (whether maintained by USDA or another agency or entity) that rely upon the compromised information; and (c) the disclosure made to such agencies, entities, and persons is reasonably necessary to assist in connection with USDA's efforts to respond to the suspected or confirmed compromise and prevent, minimize, or remedy such harm.

DISCLOSURE TO CONSUMER REPORTING AGENCIES:

None.

POLICIES AND PRACTICE FOR STORING, RETRIEVING, ACCESSING, RETAINING AND DISPOSING OF RECORDS IN THE SYSTEM STORAGE:

Electronic records are maintained on a file server. Paper files and electronic media are maintained in physically secured rooms at USDA.

RETRIEVABILITY:

Records can be accessed by customer name, applicant name, business entity name, licensee name, license number.

SAFEGUARDS:

Only authorized USDA personnel will have access to the records in the system. Permission level assignments allow users access only to those functions for which they are authorized. Users are granted system access upon successful completion of security training, and each user is provided with a unique and strong user-identification. Electronic records are controlled through Federal, USDA, and GIPSA security requirements; they are password protected; and access is limited to those who have an official need to know. Paper records are maintained in locked cabinets and in desks that are located in physically secured rooms.

RETENTION AND DISPOSAL:

The retention of data in the system is in accordance with applicable USDA Records Disposition Schedules, as approved by the National Archives and Records Administration. Hard copy records are maintained by varying periods of time, and temporary records are disposed of by shredding when the retention period is complete.

SYSTEM MANAGER AND ADDRESS:

Deputy Administrator, Federal Grain Inspection Service, U.S. Department of Agriculture, 1400 Independence Avenue, SW., Washington, DC 20250.

NOTIFICATION PROCEDURES:

Individuals may request information regarding this system of records and/or information on whether the system contains records pertaining to them from the system manager identified above. Any individual requesting such information must provide his or her name and address.

RECORD ACCESS PROCEDURE:

Any individual may obtain information from a record in the system which pertains to him/her by submitting a written request to the Privacy Act Officer, Management and Budget Services, USDA-GIPSA, 1400 Independence Avenue, SW., STOP 3642, Washington, DC 20250. The envelope and letter should be marked “Privacy Act Request” and should include the name, address, and any other particulars of the individual for which the request is made.

CONTESTING RECORD PROCEDURES:

Individuals desiring to contest or amend information maintained in the system should direct their requests to the system manager listed above, state the reason(s) for contesting the information, and provide all available documentation to support the requested action.

RECORD SOURCE CATEGORIES:

Information in this system is provided by GIPSA employees at service locations to their customers; official service providers; applicants requesting export registration, applicants requesting that they be designated to become an official service provider, and applicants requesting that they be licensed to perform official services under the USGSA. Personal information in this system is obtained from the owners and officers who operate as official service providers and from individuals who are licensed under the USGSA to perform official services. The information is provided on applications for registration, for designation, and for license.

EXEMPTIONS CLAIMED FOR THE SYSTEM:

None.

[FR Doc. 2010-31939 Filed 12-20-10; 8:45 am]

BILLING CODE 3410-KD-P